DEPARTMENT OF THE INTERIOR

Bureau of Land Management

[LLWYD03000.L14300000.EU0000; WYW-170692]

Notice of Realty Action: Non-Competitive (Direct) Sale of Public Land in Carbon County, Wyoming

AGENCY: Bureau of Land Management, Interior

ACTION: Notice of realty action.

SUMMARY: The Bureau of Land Management (BLM) is proposing a non-competitive (direct) sale of a parcel of public land totaling 1.52 acres in Carbon County, Wyoming, to Philip A. and Ray Deane Card under the provisions of the Federal Land Policy and Management Act of 1976 (FLPMA), as amended, at not less than the fair market value of $1,350.00. The Sale is pursuant to Section 203 of the Federal Land Policy and Management Act of 1976 (FLPMA), and BLM regulations. In accordance with BLM regulations, the BLM authorized officer finds that the public interest would be best served by resolving the inadvertent unauthorized use of public lands by Philip A. Card and Ray Deane Card whose improvements occupy the proposed sale parcel.

DATES: Submit written comments to the BLM at the address below. The BLM must receive comments on or before December 29, 2014.

ADDRESSES: Bureau of Land Management, Field Manager, Rawlins Field Office, 1300 N. Third Street, Rawlins, Wyoming 82301 or by emailed to blm_wy_rawlins_wymail@blm.gov or by faxed to 307-328-4224.

FOR FURTHER INFORMATION CONTACT: Annette M. Treat, Realty Specialist, 307-328-4307, at the above address. Persons who use a telecommunications device for the deaf (TDD) may call the Federal Information Relay Service (FIRS) at 1-800-877-8339 to leave a message or question for the above individual. The FIRS is available 24 hours a day, 7 days a week. You will receive a reply during the normal business hours.

SUPPLEMENTARY INFORMATION: The BLM will conduct a direct sale for the following parcel of public land located in Carbon County, Wyoming. The land is described as:

Sixth Principal Meridian, Wyoming

T. 12 N., R. 90 W.,

Sec. 15, lot 2.

The area described contains 1.52 acres.

The proposed direct sale is in conformance with the BLM, Rawlins Resource Management Plan approved December 24, 2008. The parcel meets the land disposal criteria found in Appendix 6 and is consistent with 43 CFR 2711.3-3(a)(5). The BLM is offering the parcel by direct sale to resolve inadvertent unauthorized use and occupancy of the land pursuant to 43 CFR 2711.3-3(a)(5). The parcel is not required for any other Federal purpose. The regulation at 43 CFR 2711.3-3(a) permit the BLM to make direct sales of public lands when a competitive sale is not appropriate and the public interest is best served by a direct sale.

Upon publication of this Notice in the Federal Register, the above land will be segregated from all forms of appropriation under the public land laws, including the mining laws, except for the sale provisions of FLPMA. Upon publication of this Notice and until completion of the sale, the BLM will no longer accept land use applications affecting the identified public lands, except applications for the amendment of previously-filed right-of-way applications or existing authorizations to increase the term of the grants in accordance with 43 CFR 2807.15 and 2886.15. The land would not be sold until at least January 12, 2015. The temporary segregation will terminate upon issuance of a patent, publication in the Federal Register of a termination of the segregation, or November 14, 2016, unless it is extended by the BLM Wyoming State Director in accordance with 43 CFR 2711.1-2(d) prior to the termination date.

This Notice will publish once a week for 3 weeks in the Rawlins Daily Times and Craig Daily Press.

Conveyance of the identified public land will be subject to valid existing rights and encumbrances of record, including but not limited to, rights-of-way for roads and public utilities.

The patent, if issued, would be subject to the following terms and conditions, and reservations:

1. A reservation of a right-of-way thereon for ditches or canals constructed by the authority of the United States, Act of August 30, 1890 (43 U.S.C. 945);

2. A reservation of all minerals deposits in the land so patented, and to it, or persons authorized by it, the right to prospect for, mine, and remove such deposits from the same under applicable law and such regulations as the Secretary of the Interior may prescribe are reserved to the United States, together with all necessary access and exit rights;

3. The parcels are subject to valid existing rights; and

4. An appropriate indemnification clause protecting the United States from claims arising out of the lessees/patentee's use, occupancy, or occupation on the leased/patented lands.

Information concerning the sale, appraisal, reservations, procedures and conditions, and other environmental documents that may appear in the BLM public files for this sale parcel is available for review during normal business hours, Monday through Friday, at the BLM, Rawlins Field Office, except during Federal holidays.

Interested parties may submit written comments to the BLM, Rawlins Field Manager at the address above. Comments received in electronic form, such as email or facsimile, will not be considered.

Before including your address, phone number, email address, or other personal identifying information in your comment, you should be aware that your entire comment—including your personal identifying information—may be made publicly available at any time. While you may ask us in your comment to withhold your personal identifying information from public review, we cannot guarantee that we will be able to do so. Any adverse comments regarding this sale will be reviewed by the BLM State Director or other authorized official of the Department of the Interior, who may sustain, vacate, or modify this realty action in whole or in part. In the absence of timely filed objections, this realty action will become the final determination of the Department of the Interior.

(Authority: 43 CFR 2711)
Donald A. Simpson,
State Director.

[FR Doc. 2014-26710 Filed 11-10-14; 8:45 am]

BILLING CODE 4310-22-P